DEPARTMENT OF TRANSPORTATION

Federal Aviation Administration

14 CFR Part 97

[Docket No. 30912; Amdt. No. 3547]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 12, 2013. The compliance date for each SIAP, associated Takeoff Minimums, and ODP is specified in the amendatory provisions.

The incorporation by reference of certain publications listed in the regulations is approved by the Director of the Federal Register as of August 12, 2013.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK. 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore— (1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on July 19, 2013.
John Duncan,
Deputy Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

. . . Effective Upon Publication

AIRAC Date | State | City | Airport | FDC No. | FDC Date | Subject
8/22/13 | AK | Atqasuk | Atqasuk Edward Burnell Sr Memorial | 2/7242 | 7/16/13 | NDB Rwy 24, Amdt 2
8/22/13 | AK | Atqasuk | Atqasuk Edward Burnell Sr Memorial | 2/7243 | 7/16/13 | NDB Rwy 6, Amdt 2
8/22/13 | AK | Toksook Bay | Toksook Bay | 3/0100 | 7/15/13 | Takeoff Minimums and (Obstacle) DP, Amdt 1
8/22/13 | OR | John Day | Grant Co Rgnl/Ogilvie Field | 3/1041 | 7/16/13 | RNAV (GPS) Z Rwy 9, Orig-A
8/22/13 | OR | John Day | Grant Co Rgnl/Ogilvie Field | 3/1042 | 7/16/13 | RNAV (GPS) Y Rwy 9, Orig-A
8/22/13 | CA | Blythe | Blythe | 3/1523 | 7/16/13 | Takeoff Minimums and (Obstacle) DP, Amdt 1
8/22/13 | OR | Salem | Mcnary Fld | 3/1680 | 7/16/13 | LOC/DME Rwy 31, Amdt 2B
8/22/13 | OR | Salem | Mcnary Fld | 3/1682 | 7/16/13 | ILS or LOC Rwy 31, Amdt 29
8/22/13 | CA | Ontario | Ontario Intl | 3/1730 | 7/16/13 | ILS or LOC Rwy 26R, Amdt 3A
8/22/13 | AK | Nome | Nome | 3/1737 | 7/16/13 | RNAV (GPS) Rwy 3, Orig-A
8/22/13 | AK | Nome | Nome | 3/1738 | 7/16/13 | NDB/DME Rwy 3, Amdt 2A
8/22/13 | AK | Nome | Nome | 3/1739 | 7/16/13 | ILS or LOC/DME Z Rwy 28, Amdt 3B
8/22/13 | AK | Nome | Nome | 3/1740 | 7/16/13 | NDB A, Orig-A
8/22/13 | AK | Nome | Nome | 3/1741 | 7/16/13 | VOR/DME Rwy 10, Amdt 2A
8/22/13 | AK | Nome | Nome | 3/1742 | 7/16/13 | VOR Rwy 28, Amdt 2A
8/22/13 | AK | Nome | Nome | 3/1746 | 7/16/13 | ILS or LOC/DME Y Rwy 28, Amdt 3B
8/22/13 | AK | Nome | Nome | 3/1747 | 7/16/13 | LOC/DME BC Rwy 10, Amdt 3A
8/22/13 | CA | Santa Maria | Santa Maria Pub/Capt G Allan Hancock Fld | 3/2028 | 7/16/13 | RNAV (GPS) Rwy 30, Orig
8/22/13 | CA | Santa Maria | Santa Maria Pub/Capt G Allan Hancock Fld | 3/2029 | 7/16/13 | LOC/DME BC A, Amdt 10D
8/22/13 | CO | Kremmling | Mc Elroy Airfield | 3/2344 | 7/15/13 | GPS Rwy 27, Orig
8/22/13 | CO | Eagle | Eagle County Rgnl | 3/2364 | 7/16/13 | RNAV (GPS) D, Orig
8/22/13 | AZ | Prescott | Ernest A. Love Field | 3/2369 | 7/16/13 | ILS/DME Rwy 21L, Amdt 3A
8/22/13 | AZ | Prescott | Ernest A. Love Field | 3/2370 | 7/16/13 | RNAV (GPS) Rwy 21L, Amdt 1
8/22/13 | AZ | Prescott | Ernest A. Love Field | 3/2371 | 7/16/13 | GPS Rwy 12, Orig-A
8/22/13 | AZ | Prescott | Ernest A. Love Field | 3/2375 | 7/16/13 | VOR Rwy 12, Amdt 2A
8/22/13 | OK | Oklahoma City | Sundance Airpark | 3/2421 | 7/16/13 | RNAV (GPS) Rwy 17, Amdt 1
8/22/13 | SD | Brookings | Brookings Rgnl | 3/2982 | 7/16/13 | ILS or LOC Rwy 30, Orig-A
8/22/13 | NE | Crete | Crete Muni | 3/3121 | 7/16/13 | VOR/DME Rwy 17, Amdt 4
8/22/13 | TX | Livingston | Livingston Muni | 3/3522 | 7/16/13 | RNAV (GPS) Rwy 30, Orig-A
8/22/13 | IL | Chicago | Chicago Midway Intl | 3/3637 | 7/16/13 | ILS or LOC/DME Rwy 4R, Amdt 1A
8/22/13 | IL | Chicago | Chicago Midway Intl | 3/3638 | 7/16/13 | ILS or LOC/DME Rwy 13C, Orig-B
8/22/13 | IL | Chicago | Chicago Midway Intl | 3/3639 | 7/16/13 | RNAV (GPS) Rwy 4L, Orig-A
8/22/13 | IL | Chicago | Chicago Midway Intl | 3/3640 | 7/16/13 | RNAV (GPS) Rwy 31R, Orig-B
8/22/13 | IL | Chicago | Chicago Midway Intl | 3/3641 | 7/16/13 | RNAV (GPS) Rwy 13L, Orig-A
8/22/13 | IL | Chicago | Chicago Midway Intl | 3/3642 | 7/16/13 | RNAV (GPS) Rwy 22R, Orig-B
8/22/13 | IL | Chicago | Chicago Midway Intl | 3/3643 | 7/16/13 | RNAV (GPS) Z Rwy 13C, Orig-B
8/22/13 | GA | Lawrenceville | Gwinnett County—Briscoe Field | 3/3660 | 7/15/13 | ILS or LOC Rwy 25, Amdt 2A
8/22/13 | IN | Sullivan | Sullivan County | 3/3817 | 7/15/13 | RNAV (GPS) Rwy 18, Orig
8/22/13 | KY | Capital City | Frankfort | 3/4050 | 7/16/13 | RNAV (GPS) Rwy 25, Amdt 2
8/22/13 | KY | Capital City | Frankfort | 3/4051 | 7/16/13 | LOC Rwy 25, Amdt 3
8/22/13 | KY | Capital City | Frankfort | 3/4052 | 7/16/13 | RNAV (GPS) Rwy 7, Amdt 2
8/22/13 | CA | Stockton | Stockton Metropolitan | 3/4109 | 7/16/13 | VOR Rwy 29R, Amdt 18B
8/22/13 | WI | Madison | Dane County Rgnl-Truax Field | 3/4419 | 7/16/13 | RNAV (GPS) Rwy 21, Amdt 2
8/22/13 | WI | Madison | Dane County Rgnl-Truax Field | 3/4420 | 7/16/13 | ILS or LOC Rwy 21, Orig
8/22/13 | WI | Madison | Dane County Rgnl-Truax Field | 3/4421 | 7/16/13 | ILS or LOC/DME Rwy 18, Amdt 1A
8/22/13 | WI | Madison | Dane County Rgnl-Truax Field | 3/4422 | 7/16/13 | VOR/DME or TACAN Rwy 18, Amdt 1A
8/22/13 | WI | Madison | Dane County Rgnl-Truax Field | 3/4425 | 7/16/13 | RNAV (GPS) Rwy 36, Amdt 2
8/22/13 | WI | Madison | Dane County Rgnl-Truax Field | 3/4426 | 7/16/13 | RNAV (GPS) Rwy 32, Amdt 2
8/22/13 | WI | Madison | Dane County Rgnl-Truax Field | 3/4427 | 7/16/13 | RNAV (GPS) Rwy 18, Amdt 2
8/22/13 | WI | Madison | Dane County Rgnl-Truax Field | 3/4428 | 7/16/13 | RNAV (GPS) Rwy 14, Amdt 2
8/22/13 | WI | Madison | Dane County Rgnl-Truax Field | 3/4429 | 7/16/13 | VOR/DME or TACAN Rwy 14, Orig-B
8/22/13 | WI | Madison | Dane County Rgnl-Truax Field | 3/4430 | 7/16/13 | VOR/DME or TACAN Rwy 32, Orig-B
8/22/13 | WI | Madison | Dane County Rgnl-Truax Field | 3/4434 | 7/16/13 | ILS or LOC/DME Rwy 36, Amdt 1A
8/22/13 | WI | Madison | Dane County Rgnl-Truax Field | 3/4435 | 7/16/13 | RNAV (GPS) Rwy 3, Orig
8/22/13 | WI | Madison | Dane County Rgnl-Truax Field | 3/4436 | 7/16/13 | VOR Rwy 18, Amdt 1
8/22/13 | WI | Madison | Dane County Rgnl-Truax Field | 3/4438 | 7/16/13 | VOR Rwy 36, Orig
8/22/13 | WI | Madison | Dane County Rgnl-Truax Field | 3/4440 | 7/16/13 | VOR Rwy 14, Orig-A
8/22/13 | TX | Corsicana | C David Campbell Field-Corsicana Muni | 3/4596 | 7/15/13 | RNAV (GPS) Rwy 14, Orig-A
8/22/13 | TX | Corsicana | C David Campbell Field-Corsicana Muni | 3/4597 | 7/15/13 | RNAV (GPS) Rwy 32, Orig-A
8/22/13 | NC | Lumberton | Lumberton Muni | 3/4617 | 7/16/13 | RNAV (GPS) Rwy 13, Orig
8/22/13 | NC | Lumberton | Lumberton Muni | 3/4626 | 7/16/13 | RNAV (GPS) Rwy 23, Orig
8/22/13 | NC | Lumberton | Lumberton Muni | 3/4631 | 7/16/13 | ILS or LOC Rwy 5, Amdt 1
8/22/13 | NC | Lumberton | Lumberton Muni | 3/4655 | 7/16/13 | RNAV (GPS) Rwy 5, Orig
8/22/13 | NC | Lumberton | Lumberton Muni | 3/4666 | 7/16/13 | Takeoff Minimums and (Obstacle) DP, Amdt 2
8/22/13 | AK | Gambell | Gambell | 3/4786 | 7/16/13 | NDB/DME Rwy 34, Amdt 2A
8/22/13 | AK | Gambell | Gambell | 3/4789 | 7/16/13 | NDB Rwy 16, Amdt 1A
8/22/13 | GA | Lawrenceville | Gwinnett County—Briscoe Field | 3/5075 | 7/15/13 | RNAV (GPS) Rwy 25, Orig-A
8/22/13 | MN | Morris | Morris Muni—Charlie Schmidt Fld | 3/5140 | 7/15/13 | VOR Rwy 32, Amdt 5
8/22/13 | AK | Nenana | Nenana Muni | 3/5232 | 7/16/13 | NDB Rwy 4L, Amdt 3
8/22/13 | CA | Napa | Napa County | 3/5305 | 7/15/13 | ILS or LOC Rwy 36L, Orig
8/22/13 | MN | Morris | Morris Muni—Charlie Schmidt Fld | 3/5500 | 7/17/13 | VOR Rwy 14, Amdt 1
8/22/13 | NY | New York | La Guardia | 3/5603 | 7/16/13 | ILS or LOC Rwy 13, Amdt 1A
8/22/13 | WA | Seattle | Seattle-Tacoma Intl | 3/5801 | 7/17/13 | ILS or LOC Rwy 34L, ILS Rwy 34L (SA CAT I & II), Amdt 1A
8/22/13 | WA | Seattle | Seattle-Tacoma Intl | 3/5806 | 7/17/13 | ILS or LOC Rwy 34R, ILS Rwy 34R (SA CAT I & II), Amdt 2A
8/22/13 | WA | Seattle | Seattle-Tacoma Intl | 3/5807 | 7/17/13 | ILS or LOC Rwy 34C, ILS Rwy 34C (SA CAT I & II), Amdt 3A
8/22/13 | AK | Mc Grath | Mc Grath | 3/5836 | 7/16/13 | LOC/DME Rwy 16, Amdt 3
8/22/13 | AK | Mc Grath | Mc Grath | 3/5837 | 7/16/13 | VOR/DME or TACAN Rwy 16, Amdt 1
8/22/13 | VA | Norfolk | Norfolk Intl | 3/6212 | 7/15/13 | RNAV (GPS) Rwy 14, Orig-B
8/22/13 | VA | Norfolk | Norfolk Intl | 3/6213 | 7/15/13 | VOR/DME Rwy 14, Amdt 2E
8/22/13 | CA | Sacramento | Mc Clellan Airfield | 3/6426 | 7/15/13 | VOR/DME Rwy 16, Orig-B
8/22/13 | CA | Sacramento | Mc Clellan Airfield | 3/6427 | 7/15/13 | ILS or LOC Rwy 16, Orig-C
8/22/13 | SD | Pine Ridge | Pine Ridge | 3/6487 | 7/16/13 | RNAV (GPS) Rwy 30, Orig
8/22/13 | NY | Fishers Island | Elizabeth Field | 3/6780 | 7/16/13 | VOR or GPS A, Amdt 6
8/22/13 | CA | Bakersfield | Meadows Field | 3/6835 | 7/15/13 | RNAV (GPS) Rwy 12L, Amdt 1A
8/22/13 | MS | Ripley | Ripley | 3/6936 | 7/15/13 | VOR/DME A, Amdt 2
8/22/13 | MS | Ripley | Ripley | 3/6937 | 7/15/13 | RNAV (GPS) Rwy 3, Amdt 1
8/22/13 | MS | Ripley | Ripley | 3/6938 | 7/15/13 | RNAV (GPS) Rwy 21, Amdt 1
8/22/13 | IA | Algona | Algona Muni | 3/7044 | 7/15/13 | NDB Rwy 12, Amdt 6
8/22/13 | IA | Algona | Algona Muni | 3/7045 | 7/15/13 | VOR/DME A, Amdt 7
8/22/13 | IA | Algona | Algona Muni | 3/7046 | 7/15/13 | RNAV (GPS) Rwy 12, Orig
8/22/13 | OH | Batavia | Clermont County | 3/7143 | 7/16/13 | RNAV (GPS) Rwy 4, Amdt 1
8/22/13 | OH | Batavia | Clermont County | 3/7144 | 7/16/13 | VOR- B, Amdt 7A
8/22/13 | OH | Batavia | Clermont County | 3/7161 | 7/16/13 | RNAV (GPS) Rwy 22, Amdt 1
8/22/13 | OH | Batavia | Clermont County | 3/7162 | 7/16/13 | NDB Rwy 22, Amdt 1A
8/22/13 | KY | Flemingsburg | Fleming-Mason | 3/7374 | 7/15/13 | RNAV (GPS) Rwy 7, Orig
8/22/13 | KY | Flemingsburg | Fleming-Mason | 3/7375 | 7/15/13 | RNAV (GPS) Rwy 25, Orig
8/22/13 | KY | Flemingsburg | Fleming-Mason | 3/7376 | 7/15/13 | LOC Rwy 25, Orig-B
8/22/13 | PA | Toughkenamon | New Garden | 3/7415 | 7/15/13 | VOR Rwy 24, Amdt 7B
8/22/13 | VA | Galax Hillsville | Twin County | 3/8441 | 7/15/13 | RNAV (GPS) Rwy 1, Amdt 1
8/22/13 | OR | Baker City | Baker City Muni | 3/8770 | 7/15/13 | VOR/DME Rwy 13, Amdt 11B
8/22/13 | OR | Baker City | Baker City Muni | 3/8771 | 7/15/13 | RNAV (GPS) Rwy 13, Amdt 1
8/22/13 | OR | Baker City | Baker City Muni | 3/8772 | 7/15/13 | VOR A, Amdt 1A
8/22/13 | CA | Sacramento | Sacramento Intl | 3/9137 | 7/15/13 | ILS or LOC Rwy 34L, Amdt 7A
8/22/13 | CO | Alamosa | San Luis Valley Rgnl/Bergman Field | 3/9279 | 7/15/13 | Takeoff Minimums and (Obstacle) DP, Amdt 4
8/22/13 | AK | Kokhanok | Kokhanok | 3/9642 | 7/16/13 | RNAV (GPS) Rwy 6, Orig-A
8/22/13 | AK | Kokhanok | Kokhanok | 3/9643 | 7/16/13 | RNAV (GPS) Rwy 24, Orig-A
8/22/13 | AZ | Marana | Marana Rgnl | 3/9689 | 7/16/13 | Takeoff Minimums and (Obstacle) DP, Orig
8/22/13 | CA | Riverside | Riverside Muni | 3/9738 | 7/16/13 | ILS or LOC Rwy 9, Amdt 8
8/22/13 | WA | Eastsound | Orcas Island | 3/9787 | 7/16/13 | RNAV (GPS) A, Orig

[FR Doc. 2013-18850 Filed 8-9-13; 8:45 am]

BILLING CODE 4910-13-P